DEPARTMENT OF ENERGY

Federal Energy Regulatory Commission

[Project No. 233-081]

Pacific Gas and Electric Company, California; Notice of Public Meetings for Discussion of the Draft Environmental Impact Statement for the Pit 3, 4, 5 Project

April 15, 2003.

On March 14, 2003, the Commission staff mailed the Pit 3, 4, 5 Hydroelectric Project Draft Environmental Impact Statement (DEIS) to the Environmental Protection Agency, resource and land management agencies, and interested organizations and individuals.

The DEIS was noticed in the Federal Register on March 21, 2003 (68 FR 13911), and comments are due by May 21, 2003. The DEIS evaluates the environmental consequences of the relicensing and subsequent operation of the existing 325-megawatt Pit 3, 4, 5 Project located on the Pit River, in Shasta County, California. The project occupies 746 acres of land of the United States administered by the Forest Supervisors of the Shasta-Trinity and Lassen National Forests. It also evaluates the environmental effects of implementing the applicant's proposals, agency and NGO recommendations, staff's recommendations, and the no-action alternative.

The Commission will hold three public meetings on the DEIS. At these meetings, resource agency personnel and other interested persons will have the opportunity to provide oral and written comments and recommendations regarding the DEIS. The meetings will be recorded by a stenographer and all comments and recommendations received will become part of the formal record for this Commission proceeding. We invite all interested agencies, non-governmental organizations, Native American tribes, and individuals to attend one or more of the meetings. The meetings will be held as follows.

Date | Time | Location
April 29, 2003 | 10 a.m.-noon. | Holiday Inn, 1900 Hilltop Drive, Redding, California.
April 29, 2003 | 7-9 p.m. | Burney Community Center, 37477 Main Street, Burney, California.
April 30, 2003 | 1-3 p.m. | Veterans Hall, 508 South Main Street, Alturas, California.

For further information, please contact John Mudre, at (202) 502-8902, or john.mudre@ferc.gov, Federal Energy Regulatory Commission, Office of Energy Projects, 888 First St., NE., Washington, DC 20426.

Magalie R. Salas,
Secretary.

[FR Doc. 03-9813 Filed 4-21-03; 8:45 am]

BILLING CODE 6717-01-P